SURFACE TRANSPORTATION BOARD

[Docket No. FD 36236]

Wolf Creek Railroad LLC—Lease and Operation Exemption—American Ordnance LLC, Owner's Representative for U.S. Army Joint Munitions Command

Wolf Creek Railroad LLC (Wolf Creek), a noncarrier, has filed a verified notice of exemption under 49 CFR 1150.31 to lease from American Ordnance LLC (AO), as owner's representative for the U.S. Army Joint Munitions Command (JMC), and to operate, approximately ten miles of track (the Line) ¹ within the Milan Army Ammunition Plant (Plant).² According to Wolf Creek, there are no mileposts assigned to the Line. The Line is located in Gibson County, Tenn., on a portion of the Plant that JMC no longer needs and that will be repurposed as a business park.

¹ Wolf Creek states that the lease also includes other tracks that will be operated by Wolf Creek as yard and industrial tracks for which no Board authority is required.

² The Plant is owned by JMC. According to Wolf Creek, AO and JMC are parties to an Operations and Maintenance Agreement that permits AO to grant rights to use certain property within the Plant, including the railroad tracks.

Wolf Creek states that, upon consummation of the transaction and the commencement of operations, Wolf Creek will be a Class III carrier. Wolf Creek states that it is leasing the Line in order to provide common carrier rail service to transload customers and other rail customers that may locate in the planned business park. Wolf Creek states it that will originate and terminate freight traffic and conduct loading and unloading operations and that it will also offer rail car storage and car repair services within the Plant. According to Wolf Creek, the Line connects with CSX Transportation, Inc. (CSXT), and West Tennessee Railroad (WTNN) at Milan, Tenn., and Wolf Creek will seek to establish interchange with both CSXT and WTNN.

This transaction is related to a concurrently filed verified notice of exemption in Eyal Shapira—Continuance in Control Exemption—Iowa & Middletown Railway, Docket No. FD 36232, in which Eyal Shapira seeks Board approval to continue in control of Wolf Creek upon Wolf Creek's becoming a Class III rail carrier.³

³ The verified notice of exemption in Docket No. FD 36232 also relates to a verified notice of exemption in Iowa & Middletown Railway—Lease & Operation Exemption—American Ordinance LLC, Owner's Representative for U.S. Army Joint Munitions Command, Docket No. FD 36231.

Wolf Creek certifies that its projected annual revenues as a result of this transaction will not exceed $5 million or result in the creation of a Class II or Class I rail carrier. Wolf Creek also certifies that the lease does not impose or include an interchange commitment.

The earliest this transaction may be consummated is November 22, 2018, the effective date of the exemption (30 days after the verified notice was filed). Wolf Creek states that it expects to commence common carrier operations on January 1, 2019.

If the verified notice contains false or misleading information, the exemption is void ab initio. Petitions to revoke the exemption under 49 U.S.C. 10502(d) may be filed at any time. The filing of a petition to revoke will not automatically stay the effectiveness of the exemption. Petitions to stay must be filed by November 15, 2018 (at least seven days before the exemption becomes effective).

An original and 10 copies of all pleadings, referring to Docket No. FD 36236, must be filed with the Surface Transportation Board, 395 E Street SW, Washington, DC 20423-0001. In addition, one copy of each pleading must be served on Eric M. Hocky, Clark Hill PLC, One Commerce Square, 2005 Market Street, Suite 1000, Philadelphia, PA 19103.

According to Wolf Creek, this action is exempt from environmental review under 49 CFR 1105.6(c) and exempt from historic review under 49 CFR 1105.8(b).

Board decisions and notices are available on our website at www.stb.gov.

Decided: November 2, 2018.
By the Board, Scott M. Zimmerman, Acting Director, Office of Proceedings.
Jeffrey Herzig,
Clearance Clerk.

[FR Doc. 2018-24428 Filed 11-7-18; 8:45 am]

BILLING CODE 4915-01-P